ENVIRONMENTAL PROTECTION AGENCY

[OW-2004-0017; FRL-7868-1]

Agency Information Collection Activities; Submission to OMB for Review and Approval; Comment Request; Combined Sewer Overflow Control Policy (Renewal), EPA ICR Number 1680.04, OMB Control Number 2040-0170

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2005.

DATES: Additional comments may be submitted on or before March 7, 2005.

ADDRESSES: Submit your comments, referencing docket ID number OW-2004-0017, to (1) EPA online using EDOCKET (our preferred method), by e-mail to OW-DOCKET@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Joel C. Wolf, Environmental Protection Agency, Water Permits Division, Mail Code 4203M, 1200 Pennsylvania Ave., NW., Washington, DC 20460; telephone number: 202-564-2228; fax number: 202-564-6392; e-mail address: wolf.joel@epa.gov.

SUPPLEMENTARY INFORMATION: EPA has submitted the following ICR to OMB for review and approval according to the procedures prescribed in 5 CFR 1320.12. On August 12, 2004 (69 FR 49895), EPA sought comments on this ICR pursuant to 5 CFR 1320.8(d). EPA received one comment that did not address the renewal ICR in any way. No response was necessary.

EPA has established a public docket for this ICR under Docket ID No. OW-2004-0017, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Combined Sewer Overflow Control Policy (Renewal).

Abstract: The information to be collected under this request is the information recommended in the CSO Control Policy that will be developed by municipalities with combined sewer systems that have combined sewer overflows (CSOs). Specifically, the information is the documentation that the municipalities have implemented the nine minimum controls specified in the CSO policy, the long-term control plan that the municipalities must develop and implement to achieve compliance with the requirements of the Clean Water Act and applicable state water quality standards (WQS), and compliance monitoring data for demonstrating compliance with applicable WQS and National Pollutant Discharge Elimination System (NPDES) permit conditions. The first two information submittals are one-time submittals; the last element will be submitted semi-annually as part of the municipalities' Discharge Monitoring Reports (DMRs). EPA will use this information to determine how well the CSO Control Policy is being implemented at the state and local level and to prepare the performance reports required under the Government Performance and Results Act (GPRA). The information to be collected under this information collection is necessary to determine the program's achievement of GPRA performance measures.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 515 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: municipalities with combined sewer systems.

Estimated Number of Respondents: 776.

Frequency of Response: One-time for selected items; semi-annually for others.

Estimated Total Annual Hour Burden: 400,542.

Estimated Total Annual Cost: $14,715,366, which includes $155,664 in Capital Expense, $0 in O&M costs, and $14,559,702 in Respondent Labor Costs.

Changes in the Estimates: There is a decrease of 179,502 hours in the total estimated burden currently identified in the OMB Inventory of Approved ICR Burdens. This decrease reflects a decrease in the number of communities needing to come into compliance with the CSO Policy. Some CSO communities have already completed some of the requirements. Additionally, this change in the burden is the result of data and information collected from EPA Regions and conversations with EPA Regional and state CSO program staff during preparation of EPA's Report to Congress on Impacts and Control of CSOs and SSOs.

Dated: January 25, 2005.
Oscar Morales,
Director, Collection Strategies Division.

[FR Doc. 05-2065 Filed 2-2-05; 8:45 am]

BILLING CODE 6560-50-P